DEPARTMENT OF DEFENSE

Department of the Navy

Notice of Availability of Inventions for Licensing; Government-Owned Inventions

AGENCY: Department of the Navy, DOD.

ACTION: Notice.

SUMMARY: The inventions listed below are assigned to the United States Government as represented by the Secretary of the Navy and are available for licensing by the Department of the Navy.

U.S. Provisional Patent Application Serial No. 60/207,891 entitled, “RESOURCE MANAGEMENT METHODOLOGY”, filing date: May 25, 2000, Navy Case No. 82185.

U.S. Provisional Patent Application Serial No. 60/224,381entitled, “PAYLOAD DISPENSING SYSTEM PARTICULARLY SUITED FOR UNMANNED AERIAL VEHICLES”, filing date: August 8, 2000, Navy Case No. 82210.

U.S. Provisional Patent Application Serial No. 60/229,063 entitled, “CLOCK SYNCHRONIZATION USING QUANTUM MECHANICAL NON-LOCALITY EFFECTS”, filing date: August 31, 2000, Navy Case No. 82343.

ADDRESSES: Requests for copies of the provisional patent applications cited should be directed to the Naval Surface Warfare Center, Dahlgren Laboratory, Code CD222, 17320 Dahlgren Road, Building 183, Room 015, Dahlgren, VA 22448-5100, and must include the Navy Case number. Interested parties will be required to sign a Confidentiality, Non-Disclosure and Non-Use Agreement before receiving copies of requested patent applications.

FOR FURTHER INFORMATION CONTACT: James B. Bechtel, Patent Counsel, Naval Surface Warfare Center, Dahlgren Laboratory, Code CD222, 17320 Dahlgren Road, Building 183, Room 015, Dahlgren, VA 22448-5100, telephone (540) 653-8016.

(Authority: 35 U.S.C. 207, 37 CFR Part 404)

Dated: September 29, 2000.
J.L. Roth,
Judge Advocate General's Corps, U.S. Navy, Federal Register Liaison Officer.

[FR Doc. 00-26271 Filed 10-12-00; 8:45 am]

BILLING CODE 3810-FF-P